DEPARTMENT OF COMMERCE

National Telecommunications and Information Administration

First Responder Network Authority

[Docket Number: 141104926-4926-01]

RIN 0660-XC014

Notice of Intent To Prepare Programmatic Environmental Impact Statements and Conduct Scoping for the Nationwide Public Safety Broadband Network

AGENCY: First Responder Network Authority, National Telecommunications and Information Administration, U.S. Department of Commerce.

ACTION: Notice of Intent.

SUMMARY: The First Responder Network Authority (“FirstNet”) announces its intent to prepare five regional Programmatic Environmental Impact Statements (“PEISs”) and conduct public scoping meetings to evaluate the potential environmental impacts of the proposed nationwide public safety broadband network. The specific locations, dates, and times for the scoping meetings will be announced on the FirstNet Web site, no later than one week prior to each meeting.

DATES: The scoping period for this notice will begin on the date of publication of this notice and will end December 29, 2014. Comments to this notice must be submitted on or before December 29, 2014.

ADDRESSES: The public is invited to submit written comments to this Notice. Written comments may be submitted electronically via email to PEIScomments@firstnet.gov or by mail (to the address listed in FOR FURTHER INFORMATION CONTACT). Comments received will be made a part of the public record and may be posted to FirstNet's Web site (www.firstnet.gov) without change. Comments should be machine readable and should not be copy-protected. All personally identifiable information (e.g., name, address) voluntarily submitted by the commenter may be publicly accessible. Do not submit confidential business information or otherwise sensitive or protected information.

FOR FURTHER INFORMATION CONTACT: Amanda Pereira, NEPA Coordinator, First Responder Network Authority, National Telecommunications and Information Administration, U.S. Department of Commerce, 12201 Sunrise Valley Drive, M/S 243, Reston, VA 20192.

SUPPLEMENTARY INFORMATION: The Middle Class Tax Relief and Job Creation Act of 2012 (Pub. L. 112-96, Title VI, 126 Stat. 256 (codified at 47 U.S.C. 1401 et seq.)) (the “Act”) created and authorized FirstNet to take all actions necessary to ensure the building, deployment, and operation of an interoperable, nationwide public safety broadband network (“NPSBN”) based on a single, national network architecture. The Act meets a long-standing and critical national infrastructure need, to create a single, nationwide network that will, for the first time, allow police officers, fire fighters, emergency medical service professionals, and other public safety entities to effectively communicate with each other across agencies and jurisdictions.

The National Environmental Policy Act of 1969 (42 U.S.C. 4321-4347) (“NEPA”) requires federal agencies to undertake an assessment of environmental effects of their proposed actions prior to making a final decision and implementing the action. NEPA requirements apply to any federal project, decision, or action that may have a significant impact on the quality of the human environment. NEPA also establishes the Council on Environmental Quality (“CEQ”), which issued regulations implementing the procedural provisions of NEPA (see 40 CFR parts 1500-1508). Among other considerations, CEQ regulations at 40 CFR 1508.28 recommend the use of tiering from a “broader environmental impact statement (such as a national program or policy statements) with subsequent narrower statements or environmental analysis (such as regional or basin wide statements or ultimately site-specific statements) incorporating by reference the general discussions and concentrating solely on the issues specific to the statement subsequently prepared.”

Due to the geographic scope of FirstNet (all 50 states, the District of Columbia, and five territories) and the diversity of ecosystems potentially traversed by the project, FirstNet has elected to prepare five regional PEISs. The five PEISs will be divided as follows:

East | Central | West | South | Non-contiguous
Delaware | Colorado | Arizona | Alabama | Alaska
District of Columbia | Illinois | California | Arkansas | American Samoa
Connecticut | Indiana | Idaho | Florida | CNMI
Maine | Iowa | Nevada | Georgia | Guam
Maryland | Kansas | Oregon | Kentucky | Hawaii
Massachusetts | Michigan | Washington | Louisiana | Puerto Rico
New Hampshire | Minnesota |  | Mississippi | U.S. Virgin Islands
New Jersey | Missouri |  | New Mexico |
New York | Montana |  | North Carolina |
Pennsylvania | Nebraska |  | Oklahoma |
Rhode Island | North Dakota |  | South Carolina |
Vermont | Ohio |  | Tennessee |
Virginia | South Dakota |  | Texas |
West Virginia | Utah |  |  |
| Wisconsin
| Wyoming

Once a PEIS is completed and a Record of Decision (ROD) is signed, the proposed FirstNet projects can begin to submit the site-specific environmental documentation to determine if the proposed project has been adequately evaluated in the PEIS or warrants a Categorical Exclusion, an Environmental Assessment, or an Environmental Impact Statement.

Dated: November 6, 2014.
Genevieve Walker,
Director of Environmental Compliance, First Responder Network Authority.

[FR Doc. 2014-26772 Filed 11-10-14; 8:45 am]

BILLING CODE 3510-TL-P